DEPARTMENT OF ENERGY

Federal Energy Regulatory Commission

[Docket Nos. CP06-412-000 and CP06-416-000]

Puget Sound Energy, Inc. and Northwest Pipeline Corporation; Notice of Application

July 10, 2006.

Take notice that on June 30, 2006, Puget Sound Energy, Inc. (Puget), 10885 NE. 4th Street, Bellevue, Washington 98009, filed an application in Docket No. CP06-412-000, pursuant to sections 7(c) and 7(b) of the Natural Gas Act (NGA) and part 157 of the Commission's regulations, for a certificate of public convenience and necessity and related abandonment authority for Puget, as operator of the Jackson Prairie Storage Project in Lewis County, Washington, to construct and operate new and upgraded facilities necessary to increase the Jackson Prairie maximum firm withdrawal deliverability from 850 MMcf/day to 1,150 MMcf/day on behalf of three owners of Jackson Prairie, Puget, Northwest Pipeline Corporation (Northwest), and Avista Corporation. Also on June 30, 2006, Northwest, 295 Chipeta Way, Salt Lake City, Utah 84158, filed a companion application under section 7(c) of the NGA and part 157 of the Commission's regulations, for a certificate of public convenience and necessity authorizing it to utilize a portion of the expanded withdrawal deliverability from the Jackson Prairie Storage Project for new firm storage services. Puget's project would consist of up to ten new injection/withdrawal wells with appurtenant gathering facilities, about 0.8 miles of 24-inch-diameter pipeline looping, and various upgrades at the Jackson Prairie Compressor station and Jackson Prairie Meter Station. The total cost of facilities is estimated to be $43.8 million, all as more fully set forth in the applications which are on file with the Commission and open to public inspection. The filings may also be viewed on the Web at http://www.ferc.gov using the “eLibrary” link. Enter the docket number excluding the last three digits in the docket number field to access the document. For assistance, please contact FERC Online Support at FERCOnlineSupport@ferc.gov or toll free at (866) 208-3676, or for TTY, contact (202) 502-8659.

Any questions regarding these applications may be directed to Garry Kotter, Manager, Certificates and Tariffs, at (801) 584-7117, Northwest Pipeline Corporation, P.O. Box 58900, Salt Lake City Utah, 84158-900.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. Unless filing electronically, a party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions via the Internet in lieu of paper. See, 18 CFR 385.2001(a)(1)(iii) and the instructions on the Commission's Web site (http://www.ferc.gov) under the “e-Filing” link.

Comment Date: 5 p.m. Eastern Time, July 31, 2006.

Magalie R. Salas,
Secretary.

[FR Doc. E6-11200 Filed 7-14-06; 8:45 am]

BILLING CODE 6717-01-P